COMMITTEE FOR PURCHASE FROM PEOPLE WHO ARE BLIND OR SEVERELY DISABLED

Procurement List; Proposed additions

AGENCY: Committee for Purchase From People Who Are Blind or Severely Disabled.

ACTION: Proposed additions to the Procurement List.

SUMMARY: The Committee is proposing to add products and a service to the Procurement List that will be furnished by nonprofit agencies employing persons who are blind or have other severe disabilities.

DATES: Comments must be received on or before: April 19, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSNs—Product Names:

6515-01-NIB-0262—Gloves, Patient Examination and Treatment, Sand, Large, For CLS 6545-01-677-4906 Only

6510-01-NIB-2275—Bandage Kit, Elastic, For CLS 6545-01-677-4906 Only

6515-01-NIB-1877—Shield, Eye, Surgical with Garter Shield Cover, White, For CLS 6545-01-677-4906 Only

6510-01-NIB-2117—Bandage Gauze, For CLS 6545-01-677-4906 Only

Mandatory Source of Supply: Lighthouse Works, Orlando, FL

Contracting Activity: DEFENSE LOGISTICS AGENCY, DLA TROOP SUPPORT

NSNs—Product Names:

9150-00-231-6689—Lubricating Oil, Utility, 1 Qt.

9150-00-281-2060—Lubricating Oil, Utility

9150-00-231-9045—Lubricating Oil, Utility, MMPV, 1 Gal.

9150-00-231-9062—Lubricating Oil, Utility, CN/5 Gal.

Mandatory Source of Supply: The Lighthouse for the Blind, St. Louis, MO

Contracting Activity: DEFENSE LOGISTICS AGENCY, DLA AVIATION

Service

Service Type: Mess Attendant Service

Mandatory for: US Air Force, Fairchild Air Force Base, WA

Mandatory Source of Supply: Skils'kin, Spokane, WA

Contracting Activity: DEPT OF THE AIR FORCE, Air Force Nonappropriated Funds Purchasing Office, San Antonio, TX

Michael R. Jurkowski,
Deputy Director, Business & PL Operations.

[FR Doc. 2020-05937 Filed 3-19-20; 8:45 am]

BILLING CODE 6353-01-P